POSTAL SERVICE

39 CFR Part 965

Rules of Practice in Proceedings Relative to Mail Disputes

AGENCY: Postal Service.

ACTION: Final rule.

SUMMARY: The Postal Service is amending the rules of practice of the Office of the Judicial Officer to clarify that parties may submit arguments as well as sworn statements in support of their claims to disputed mail. In addition, the rules are being amended to clarify some provisions and update obsolete language.

DATES: Effective Date: March 30, 2011.

FOR FURTHER INFORMATION CONTACT: Administrative Judge Gary E. Shapiro, (703) 812-1910.

SUPPLEMENTARY INFORMATION:

Supporting statements. The rules governing proceedings relative to mail disputes are found in 39 CFR part 965. Formerly, § 965.5 provided that each party shall file a sworn statement of the facts supporting its claim to the disputed mail together with a copy of each document on which it relies in making such claim. The revised rule clarifies that the submission also may include argument as to why the factual statement and supporting documents should result in that party's claim to the disputed mail being accepted. The change concerning inclusion of argument in the parties' mail dispute submissions is intended to reflect longstanding practice to that effect. Clarifying this matter should avoid confusion from unclear wording that could, and in one recent case did lead a disputant to believe that only factual presentation and not argument is permitted by the rules. Corresponding changes are made to section 965.6.

Editorial changes. Several other changes are made to various sections of the rules for the purpose of clarifying the rules, updating the rules, or conforming the rules to current practice. None of the changes affects the substantive rights of disputants. Changes in sections 965.1, 965.2, 965.3, 965.4(b)(2), 965.8(a), and 965.14 reflect current practice and eliminate reference to obsolete language. Section 965.9(c) is eliminated as unnecessary.

Effective date. These revisions are changes in agency rules of practice before the Judicial Officer and do not substantially affect any rights or obligations of private parties. Therefore, it is appropriate for their adoption by the Postal Service to become effective at an early date; and these revised rules will govern proceedings docketed on or after March 30, 2011.

List of Subjects in 39 CFR Part 965

Administrative practice and procedure, Mail disputes, Postal Service.

Accordingly, the Postal Service adopts amendments to 39 CFR part 965 as set forth below.

PART 965—RULES OF PRACTICE IN PROCEEDINGS RELATIVE TO MAIL DISPUTES

1. The authority citation for part 965 continues to read as follows:

Authority: 39 U.S.C. 204, 401.

2. Section 965.1 is revised to read as follows:

§ 965.1 Authority for rules.

These rules of practice are issued by the Judicial Officer of the U.S. Postal Service pursuant to authority delegated by the Postmaster General.

3. Section 965.2 is revised to read as follows:

§ 965.2 Scope of rules.

The rules in this part shall be applicable to mail dispute cases forwarded to the Judicial Officer pursuant to Postal Operations Manual section 616.21.

4. Section 965.3 is revised to read as follows:

§ 965.3 Notice to parties.

Upon receipt of a mail dispute case, the Recorder, Office of the Judicial Officer, United States Postal Service, 2101 Wilson Boulevard, Suite 600, Arlington, VA 22201-3078, will send a notice of docketing and submission due date to the parties together with a copy of these rules.

5. Section 965.4 is amended by revising paragraph (b)(2) to read as follows:

§ 965.4 Presiding officers.

* * * * *

(b) * * *

(2) Render an initial decision, if the presiding officer is not the Judicial Officer; or if the presiding officer is the Judicial Officer, issue a tentative or a final decision or order.

6. Section 965.5 is revised to read as follows:

§ 965.5 Initial submissions by parties.

Within 15 days after receipt of the Recorder's notice, each party shall file with the Recorder a sworn statement of the facts supporting its claim to receipt of the mail together with a copy of each document on which it relies in making such claim, and any arguments supporting its claim.

7. Section 965.6 is revised to read as follows:

§ 965.6 Comments by parties.

Within 10 days of receipt of the other party's initial submission under § 965.5, each party may file with the Recorder an additional statement or rebuttal argument setting forth in detail its disagreements, if any, with its opponent's initial submission. Such rebuttal may include any additional documents relevant to the dispute.

8. Section 965.8 is amended by revising paragraph (a) to read as follows:

§ 965.8 Hearings.

(a) Generally, mail dispute cases are resolved based on written submissions. However, in the discretion of the presiding officer an oral hearing may be conducted where in the opinion of the presiding officer, the case cannot be resolved by a review of the documentary evidence.

* * * * *

§ 965.9 [Amended]

9. Section 965.9 is amended by removing paragraph (c).

10. Section 965.12 is revised to read as follows:

§ 965.12 Appeal.

Within 10 days after receipt by the parties of the initial or tentative decision, either party may file an appeal to the Judicial Officer. The Judicial Officer, or by delegation the Associate Judicial Officer, in his or her sole discretion, also may review the initial or tentative decision on his or her own initiative. If an appeal is denied, the initial or tentative decision becomes the final agency decision upon the issuance of such denial. If an appeal is not filed and the Judicial Officer, or by delegation the Associate Judicial Officer does not review the initial or tentative decision on his or her own initiative, a final order will be issued. The Judicial Officer's decision on appeal or his or her final order is the final agency decision with no further agency review or appeal rights.

11. Section 965.14 is revised to read as follows:

§ 965.14 Public information.

The Librarian of the Postal Service maintains for public inspection in the Library copies of all initial, tentative, and final agency decisions and orders. Copies of decisions also are available on the Judicial Officer's section of the official Web site of the U.S. Postal Service. The Recorder maintains the complete official record of every proceeding.

Stanley F. Mires,
Chief Counsel, Legislative.

[FR Doc. 2011-6332 Filed 3-18-11; 8:45 am]

BILLING CODE 7710-12-P